DEPARTMENT OF ENERGY

Federal Energy Regulatory Commission

Combined Notice of Filings #2

Take notice that the Commission received the following electric rate filings:

Docket Numbers: ER10-1989-016; ER10-2078-020; ER11-2192-016; ER11-4678-016; ER12-1660-019; ER12-631-017; ER12-676-013; ER13-2458-014; ER13-2461-014; ER13-2474-017; ER14-2708-019; ER14-2709-018; ER15-1016-009; ER15-2243-007; ER15-30-016; ER16-1277-010; ER16-1293-009; ER16-1293-010; ER16-1440-012; ER16-1913-007; ER16-2240-012; ER17-196-005; ER17-2270-011; ER17-582-007; ER17-583-007; ER18-1981-007; ER18-2032-007; ER18-2091-006; ER18-2224-009; ER18-807-005; ER19-2266-003; ER19-2382-003; ER19-2495-003; ER19-2513-003; ER19-774-006; ER20-1219-002; ER20-1417-002; ER20-1991-001; ER20-2069-001; ER20-2070-001; ER20-2153-002; ER20-2237-001; ER20-2380-001; ER20-2597-001; ER20-2603-001; ER20-2622-002; ER20-637-001; ER20-780-002.

Applicants: Peetz Table Wind, LLC, Pegasus Wind, LLC, Perrin Ranch Wind, LLC, Pheasant Run Wind, LLC, Pima Energy Storage System, LLC, Pinal Central Energy Center, LLC, Ponderosa Wind, LLC, Pratt Wind, LLC, Quitman Solar, LLC, Red Mesa Wind, LLC, River Bend Solar, LLC, Roswell Solar, LLC, Roundhouse Renewable Energy, LLC, Rush Springs Wind Energy, LLC, Saint Solar, LLC, Sanford Airport Solar, LLC, Seiling Wind, LLC, Seiling Wind II, LLC, Seiling Wind Interconnection Services, LLC, Skeleton Creek Wind, LLC, Silver State Solar Power South, LLC, Shafter Solar, LLC, Sky River LLC, Soldier Creek Wind, LLC, Sooner Wind, LLC, Stanton Clean Energy, LLC, Steele Flats Wind Project, LLC, Story County Wind, LLC, Stuttgart Solar, LLC, Titan Solar, LLC, Tuscola Bay Wind, LLC, Tuscola Wind II, LLC, Vasco Winds, LLC, Weatherford Wind, LLC, Wheatridge Wind II, LLC, Wheatridge Wind Energy, LLC, Wessington Springs Wind, LLC, Westside Solar, LLC, White Oak Energy LLC, White Oak Solar, LLC, White Pine Solar, LLC, Whitney Point Solar, LLC, Wildcat Ranch Wind Project, LLC, Wilmot Energy Center, LLC, Wilton Wind Energy I, LLC, Wilton Wind Energy II, LLC, Windpower Partners 1993, LLC.

Description: Notice of Change in Status of the NextEra MBR Sellers (Part 3), et al..

Filed Date: 12/8/20.

Accession Number: 20201208-5213.

Comments Due: 5 p.m. ET 12/29/20.

Docket Numbers: ER21-202-000.

Applicants: Centrica Business Solutions Optimize, LLC.

Description: Supplement to October 26, 2020 Centrica Business Solutions Optimize, LLC tariff filing.

Filed Date: 12/9/20.

Accession Number: 20201209-5179.

Comments Due: 5 p.m. ET 12/21/20.

Docket Numbers: ER21-245-001.

Applicants: Michigan Electric Transmission Company, LLC.

Description: Tariff Amendment: Amendment to IFA Filing to be effective 12/29/2020.

Filed Date: 12/10/20.

Accession Number: 20201210-5146.

Comments Due: 5 p.m. ET 12/31/20.

Docket Numbers: ER21-619-000.

Applicants: Alabama Power Company.

Description: § 205(d) Rate Filing: PowerSouth Transmission Interconnection Contract Filing to be effective 11/10/2020.

Filed Date: 12/10/20.

Accession Number: 20201210-5115.

Comments Due: 5 p.m. ET 12/31/20.

Docket Numbers: ER21-620-000.

Applicants: Georgia Power Company.

Description: § 205(d) Rate Filing: PowerSouth Interconnection Contract Filing to be effective 11/10/2020.

Filed Date: 12/10/20.

Accession Number: 20201210-5116.

Comments Due: 5 p.m. ET 12/31/20.

Docket Numbers: ER21-621-000.

Applicants: Mississippi Power Company.

Description: § 205(d) Rate Filing: PowerSouth Transmission Interconnection Contract Filing to be effective 11/10/2020.

Filed Date: 12/10/20.

Accession Number: 20201210-5117.

Comments Due: 5 p.m. ET 12/31/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 10, 2020.
Kimberly D. Bose,
Secretary.

[FR Doc. 2020-27654 Filed 12-15-20; 8:45 am]

BILLING CODE 6717-01-P